DEPARTMENT OF LABOR

Occupational Safety and Health Administration

[Docket No. OSHA-2006-0040]

SGS North America, Inc.: Applications for Expansion of Recognition

AGENCY: Occupational Safety and Health Administration (OSHA), Labor.

ACTION: Notice.

SUMMARY: In this notice, OSHA announces the applications of SGS North America, Inc., for expansion of recognition as a Nationally Recognized Testing Laboratory (NRTL) and presents the agency's preliminary finding to grant the applications.

DATES: Submit comments, information, and documents in response to this notice, or requests for an extension of time to make a submission, on or before November 20, 2024.

ADDRESSES: Comments may be submitted as follows:

Electronically: You may submit comments, including attachments, electronically at https://www.regulations.gov, the Federal eRulemaking Portal. Follow the online instructions for submitting comments.

Instructions: All submissions must include the agency's name and the docket number for this rulemaking (Docket No. OSHA-2006-0040). All comments, including any personal information you provide, are placed in the public docket without change and may be made available online at https://www.regulations.gov. Therefore, OSHA cautions commenters about submitting information they do not want made available to the public, or submitting materials that contain personal information (either about themselves or others), such as Social Security numbers and birthdates.

Docket: To read or download comments or other material in the docket, go to https://www.regulations.gov. Documents in the docket (including this Federal Register notice) are listed in the https://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Extension of comment period: Submit requests for an extension of the comment period on or before November 20, 2024 to the Office of Technical Programs and Coordination Activities, Directorate of Technical Support and Emergency Management, Occupational Safety and Health Administration, U.S. Department of Labor, 200 Constitution Avenue NW, Room N-3653, Washington, DC 20210, or by fax to (202) 693-1644.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor; phone: (202) 693-1911 or email: robinson.kevin@dol.gov.

SUPPLEMENTARY INFORMATION:

I. Notice of the Applications for Expansion

The Occupational Safety and Health Administration is providing notice that SGS North America, Inc. (SGS) is applying for an expansion of the current recognition as a NRTL. SGS requests the addition of six test sites and one test standard to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including SGS, which details the NRTL's scope of recognition. These pages are available from the OSHA website at https://www.osha.gov/dts/otpca/nrtl/index.html.

SGS currently has nine facilities (sites) recognized by OSHA for product testing and certification, with the headquarters located at: SGS North America, Inc., 620 Old Peachtree Road, Suwanee, Georgia 30024. A complete list of SGS's scope of recognition is available at https://www.osha.gov/nationally-recognized-testing-laboratory-program/sgs.

II. General Background on the Applications

SGS submitted five applications to OSHA to expand recognition as a NRTL. The first application was received on March 20, 2022 (OSHA-2006-0040-0084), requesting the addition of one test site in Brussels, Belgium. This application was revised on January 9, 2024 (OSHA-2006-0040-0089) to update the address on the original application. The second expansion application was received on March 29, 2022 (OSHA-2006-0040-0085), requesting the addition of one test site in Yokohama, Japan. This application was revised on May 9, 2024 (OSHA-2006-0040-0091) requesting an additional test standard in addition to the Yokohama site. The third expansion application was received on March 30, 2022 (OSHA-2006-0040-0086), requesting the addition of one test site in Munich, Germany. This application was revised on January 9, 2024 (OSHA-2006-0040-0090) to update the address on the application to Puchheim, Germany. The fourth (OSHA-2006-0040-0087) and fifth (OSHA-2006-0040-0088) applications were received on April 1, 2022, requesting the addition of two test sites in New Taipei City, Taiwan and one in Gunpo-si, Gyeonggi-do, Korea. In total, the applications requested the addition of six sites and one test standard to the NRTL scope of recognition.

OSHA staff performed a detailed analysis of the application packets and reviewed other pertinent information. OTPCA staff also performed on-site reviews of SGS's Korea site on April 25 and May 7, 2024; SGS's two Taiwan sites on February 29-March 1, 2024; SGS's Germany site on June 15-16, 2023; SGS's Belgium site on June 15-16, 2023; and SGS's Japan on May 9-10, 2024, in which the assessors found some nonconformances with the requirements of 29 CFR 1910.7. SGS addressed these issues sufficiently and OTPCA has preliminarily determined that OSHA should grant the application requests to add these six test sites and one test standard to SGS's NRTL scope of recognition.

Table 1 lists the six sites that SGS has requested for inclusion in the NRTL's expanded scope of recognition:

Table 1—List of Test Sites Proposed To Be Included in SGS's NRTL Scope of Recognition
Site name | Address | Country
SGS Korea Co., Ltd | 4, LS-ro 182 beon-gil Gunpo-si, Gyeonggi-do Republic of Korea 15807 | Korea.
SGS Taiwan Ltd | No. 31 & 33, Wu Chyuan Road New Taipei Industrial Park Wu Ku District New Taipei City, Taiwan 248 Chinese Taipei | Taiwan.
SGS Taiwan Ltd. Site 2 | No. 17, Wu Chyuan 8th Road, New Taipei Industrial Park, Wu Ku District, New Taipei City, Taiwan 248 Chinese Taipei | Taiwan.
SGS Germany GmbH | Benzstrasse 26/28 D-82178 Puchheim | Germany.
SGS Belgium N.V | Riverside Business Park Bld. Internationalelaan, 55/A BE-1070 Brussels | Belgium.
SGS Japan Inc | 134, Good-cho, Hodogaya-ku Yokohama Business Park North Square I 3F Yokohama, 240-0005 | Japan.

Table 2 lists the one test standard included in SGS's applications for expansion for testing and certification of products under the NRTL Program.

Table 2—Proposed Appropriate Test Standard for Inclusion in SGS's NRTL Scope of Recognition
Test standard | Test standard title
ASME A17.5 | Elevator and Escalator Electrical Equipment.

III. Preliminary Findings on the Applications

OSHA has preliminarily determined that SGS has submitted acceptable applications for expansion of the scope of recognition. OSHA's review of the application files and pertinent documentation indicates that the applications meet the requirements prescribed by 29 CFR 1910.7 for expanding the recognition to include the addition of these six test sites and one test standard for NRTL testing and certification listed above. This preliminary finding does not constitute an interim or temporary approval of SGS's applications.

IV. Public Participation

OSHA welcomes public comment as to whether SGS meets the requirements of 29 CFR 1910.7 for expansion of recognition as a NRTL. Comments should consist of pertinent written documents and exhibits.

Commenters needing more time to comment must submit a request in writing, stating the reasons for the request by the due date for comments. OSHA will limit any extension to 10 days unless the requester justifies a longer time period. OSHA may deny a request for an extension if it is not adequately justified.

To review copies of the exhibits identified in this notice, as well as comments submitted to the docket, contact the Docket Office, Occupational Safety and Health Administration, U.S. Department of Labor. These materials also are generally available online at https://www.regulations.gov under Docket No. OSHA-2006-0040 (for further information, see the “Docket” heading in the section of this notice titled ADDRESSES).

OSHA staff will review all comments to the docket submitted in a timely manner. After addressing the issues raised by these comments, staff will make a recommendation to the Assistant Secretary of Labor for Occupational Safety and Health on whether to grant SGS's applications for expansion of the scope of recognition. The Assistant Secretary will make the final decision on granting the applications. In making this decision, the Assistant Secretary may undertake other proceedings prescribed in appendix A to 29 CFR 1910.7.

OSHA will publish a public notice of the final decision in the Federal Register.

V. Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393; Sept. 18, 2020), and 29 CFR 1910.7.

Signed at Washington, DC, on October 29, 2024.
James S. Frederick,
Deputy Assistant Secretary of Labor for Occupational Safety and Health.

[FR Doc. 2024-25622 Filed 11-4-24; 8:45 am]

BILLING CODE 4510-26-P